DEPARTMENT OF TRANSPORTATION

Federal Aviation Administration

14 CFR Part 73

[Docket No. FAA-2024-2691; Airspace Docket No. 24-ASO-28]

RIN 2120-AA66

Establishment of Restricted Area R-2103C and Amendment of Restricted Area R-2103A and R-2103B; Fort Novosel, AL

AGENCY: Federal Aviation Administration (FAA), DOT.

ACTION: Final rule.

SUMMARY: This action amends restricted area R-2103A and R-2103B, Fort Novosel, AL, by amending the internal altitude sub-divisions and establishing restricted area R-2103C to match daily mission requirements. These changes do not add additional designated restricted area airspace.

DATES: Effective date 0901 UTC, April 17, 2025.

ADDRESSES: A copy of this final rule, and all background material may be viewed online at www.regulations.gov using the FAA Docket number. Electronic retrieval help and guidelines are available on the website. It is available 24 hours each day, 365 days each year.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends restricted area airspace at Fort Novosel, AL, to enhance aviation safety and align with essential United States (U.S.) Army activities.

Background

The U.S. Army initiated a request to the Jacksonville Air Route Traffic Control Center (ARTCC), who concurred, to modify the internal altitudes that vertically subdivides restricted areas R-2103A and R-2103B to align with daily mission requirements and common usage.

Restricted area R-2103A and R-2103B share the same external boundary that overlay each other. Restricted area R-2103A had designated altitudes from the surface to but not including 10,000 feet mean sea level (MSL), and restricted area R-2103B had designated altitudes from 10,000 feet MSL to 15,000 feet MSL. This action changes the internal vertical subdivision of restricted areas R-2103A and R-2103B from 10,000 feet MSL to 5,000 feet MSL. Additionally, the ceiling of restricted area R-2103B would be lowered from 15,000 feet MSL to 10,000 feet MSL. Restricted area R-2103C is established with designated altitudes from 10,000 feet MSL to 15,000 feet MSL and shares the same external boundary as restricted areas R-2103A and R-2103B so that each would overlay the other. The result of amendments to the vertical subdivisions of these restricted area airspaces allows for maximum joint use of the airspace by non-participant aircraft when U.S. Army training doesn't require all designated altitudes.

These changes do not represent any changes in lateral boundaries, operations, or new equipment being utilized in the airspace; nor does it reflect any increase in the number of operations that would be conducted.

The Rule

This action amends 14 CFR part 73 by amending restricted area R-2103A and R-2103B, Fort Novosel, AL, by amending the internal altitude sub-divisions and establishing restricted area R-2103C to match daily mission requirements.

Restricted areas R-2103A and R-2103B share common boundaries that overlay each other. The designated altitudes for R-2103A are changed to “surface to but not including 5,000 feet MSL”. The designated altitudes for R-2103B are changed to “5,000 feet MSL to but not including 10,000 feet MSL”. Restricted area R-2103C is established, and it shares a common boundary with restricted areas R-2103A and R-2103B to overlay each other. The designated altitudes for R-2103C are “10,000 feet MSL to 15,000 feet MSL”.

This action consists of administrative internal altitude amendments only and does not affect the boundaries, total volume of airspace, time of designation, or activities conducted in the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending internal altitude sub-divisions in R-2103A and R-2103B, and establishment of restricted area R-2103C, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5d—Modification of the technical description of special use airspace (SUA) that does not alter the dimensions, altitudes, or times of designation of the airspace (such as changes in designation of the controlling or using agency, or correction of typographical errors). In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f); 40103, 40113, 40120; E.O. 10854, 24 FR 9565, 3 CFR, 1959-1963 Comp., p. 389.

§ 73.21 Alabama (AL) [Amended]

2. Section 73.21 is amended as follows:

* * * * *

R-2103A Fort Novosel, AL [Amended]

Boundaries. A circular area with a radius of 4 statute miles centered at lat. 31°26′56″ N, long. 85°47′45″ W.

Designated altitudes. Surface to but not including 5,000 feet MSL.

Time of designation. Continuous.

Controlling agency. U.S. Army, Cairns Approach Control.

Using agency. Commanding General, U.S. Army Aviation Center, Fort Novosel, AL.

R-2103B Fort Novosel, AL [Amended]

Boundaries. A circular area with a radius of 4 statute miles centered at lat. 31°26′56″ N, long. 85°47′45″ W.

Designated altitudes. 5,000 feet MSL to but not including 10,000 feet MSL.

Time of designation. Continuous.

Controlling agency. U.S. Army, Cairns Approach Control.

Using agency. Commanding General, U.S. Army Aviation Center, Fort Novosel, AL.

R-2103C Fort Novosel, AL [New]

Boundaries. A circular area with a radius of 4 statute miles centered at lat. 31°26′56″ N, long. 85°47′45″ W.

Designated altitudes. 10,000 feet MSL to 15,000 feet MSL.

Time of designation. By NOTAM 6 hours in advance.

Controlling agency. FAA, Jacksonville ARTCC.

Using agency. Commanding General, U.S. Army Aviation Center, Fort Novosel, AL.

* * * * *

Issued in Washington, DC, on January 27, 2025.
Brian Eric Konie,
Manager (A), Rules and Regulations Group.

[FR Doc. 2025-01974 Filed 1-29-25; 8:45 am]

BILLING CODE 4910-13-P